DEPARTMENT OF HEALTH AND HUMAN SERVICES

National Institutes of Health

National Cancer Institute; Amended Notice of Meeting

Notice is hereby given of a change in the meeting of the National Cancer Institute Special Emphasis Panel, March 8, 2017, 12:00 p.m. to March 8, 2017, 04:00 p.m., National Cancer Institute Shady Grove, 9609 Medical Center Drive, 7W110, Rockville, MD, 20850 which was published in the Federal Register on December 29, 2016, 81 FR 96029.

The meeting notice is amended to change the date and time of the meeting to March 30, 2017 from 12:30 p.m. to 4:00 p.m. The meeting is closed to the public.

Dated: February 27, 2017.
Melanie J. Pantoja,
Program Analyst, Office of Federal Advisory Committee Policy.

[FR Doc. 2017-04076 Filed 3-2-17; 8:45 am]

BILLING CODE 4140-01-P